DEPARTMENT OF LABOR

Employment and Training Administration

American Recovery and Reinvestment Act of 2009; Notice of Availability of Funds and Solicitation for Grant Applications for State Labor Market Information Improvement Grants

Announcement Type: Notice of Solicitation for Grant Applications.

Funding Opportunity Number: SGA/DFA PY 08-17.

Catalog of Federal Domestic Assistance (CFDA) Number: 17.275.

DATES: Key Dates:

The closing date for receipt of applications under this announcement is August 14, 2009. Applications must be received no later than 4 p.m. (Eastern Time) or submitted electronically by the deadline and in accordance with the instructions in Section IV.C. of this Solicitation for Grant Applications (SGA). A pre-recorded Webinar will be online (http://www.workforce3one.org) and accessible for viewing on July 10, 2009 by 3 p.m. ET, and will be available for viewing anytime after that date. While a review of this webinar is encouraged it is not mandatory that you view this recording.

ADDRESSES: Mailed applications must be addressed to the U.S. Department of Labor, Employment & Training Administration, Division of Federal Assistance, Attention: Willie Harris, Grants Officer, Reference SGA/DFA PY-08-17, 200 Constitution Avenue, NW., Room N4716, Washington, DC 20210. For complete “Application and Submission Information,” please refer to Section IV.

SUMMARY: The Department of Labor (DOL or the Department), Employment and Training Administration (ETA) announces the availability of approximately $50 million in grant funds authorized by the American Recovery and Reinvestment Act of 2009 (the Recovery Act), Public Law 111-5, 123 Stat. 115, Division A, Title VIII, for the Workforce Agencies of the 50 States, the District of Columbia, and U.S. Territories, or a consortium of such agencies, to collect, analyze, and disseminate labor market information, and to enhance the labor exchange infrastructure for careers within the energy efficiency and renewable energy industries described in the SUPPLEMENTARY INFORMATION: Part B of this SGA. The eligible applicant for this grant solicitation is the State Workforce Agency, as States are expected to use workforce and labor market information and data as the foundation on which to build and implement effective workforce development strategies. This SGA encourages collaborative approaches, whereby multiple States apply as a consortium to conduct research that may potentially have a multi-State or national impact (please see Section III.A. for detailed eligibility information). ETA intends to fund individual State grants ranging from approximately $750,000 to $1,250,000. Individual grant awards to consortium applicants will range from $2 to $4 million, contingent upon an adequate justification of proposed project needs and the availability of resources.

SUPPLEMENTARY INFORMATION:

A. Recovery Act: Competitive Grants for Green Job Training

This section of the SGA provides general background on the American Recovery and Reinvestment Act of 2009 (Recovery Act), the competitive grants funded through the Recovery Act to prepare workers for careers in the energy efficiency and renewable energy industries, and the occupations and industries on which these grants should focus. On February 17, 2009, President Barack Obama signed into law the American Recovery and Reinvestment Act of 2009 (Recovery Act) through which Congress intended to preserve and create jobs, promote the nation's economic recovery, and assist those most impacted by the recession. Among other funding directed toward the Department of Labor, the Recovery Act provides $750 million for a program of competitive grants for worker training and placement in high growth and emerging industries. Of the $750 million allotted for competitive grants, the Recovery Act designates $500 million for projects that prepare workers for careers in the energy efficiency and renewable energy sectors described in Section 171(e)(1)(B) of the Workforce Investment Act (WIA). DOL intends to use a portion of the $500 million for providing technical assistance for this program of grants.

The purpose of these grants, which fund both green job training and research projects, is to teach workers the skills required in these emerging energy efficiency and renewable energy sectors. These efforts will lead program participants to job placement while leveraging other Recovery Act investments intended to create jobs and promote economic growth. This specific SGA focuses on collecting, analyzing, and disseminating labor market information and developing a labor exchange infrastructure, while other grants in this series focus on training and related activities. For additional information about the series of competitive grants for green job training and research projects, please refer to Training and Employment Notice (TEN) 44-08 available at http://www.doleta.gov/Recovery/legislation.cfm.

B. Green Industries and Occupations

Through this series of grants, the Department will fund workforce development research and training projects that will help connect target populations, including auto and auto-related industry workers affected by significant automotive-related restructurings, to career pathways in green industries. Grantees will implement research and training programs that will help prepare individuals for careers in any of the seven energy efficiency and renewable energy industries defined in Section 171(e)(1)(B)(ii) of the WIA, which include:

• The energy-efficient building, construction, and retrofit industries;

• The renewable electric power industry;

• The energy efficient and advanced drive train vehicle industry;

• The biofuels industry;

• The deconstruction and materials use industries;

• The energy efficiency assessment industry serving residential, commercial, or industrial sectors; and

• Manufacturers that produce sustainable products using environmentally sustainable processes and materials.

Additionally, the Department is interested in applicants contributing to our understanding of green industries and jobs that clean and enhance our environment. Initial research supported by the Department of Labor shows that there are “growth, enhanced and emerging” green occupations across a number of industries. Applicants may propose strategies that focus on training or labor market information and exchange related to those occupations from among the following industries: transportation; green construction; environmental protection; sustainable agriculture including healthy food production; forestry; and recycling and waste reduction (see O*NET report at http://www.onetcenter.org/reports/Green.html). The Department will consider proposals that focus on these occupations within these industries if applicants can offer supporting data demonstrating these are emerging industries which are producing jobs in their communities.

For the purpose of these SGAs, the Department defines energy efficiency and renewable energy as follows. Section 203(b)(2) of the Energy Policy Act of 2005, Public Law 109-58, 119 Stat. 595, defines “renewable energy” as “electric energy generated from solar, wind, biomass, landfill gas, ocean (including tidal, wave, current, and thermal), geothermal, municipal solid waste, or new hydroelectric generation capacity achieved from increased efficiency or additions of new capacity at an existing hydroelectric project.” “Energy efficiency” can be broadly defined as programs aimed at mitigating the use of energy, reducing harmful emissions, and decreasing overall energy consumption.

The Department of Labor's Bureau of Labor Statistics (BLS) is working to develop a definition for green sectors and jobs, which will be used to ensure that workforce development efforts identify and target these green jobs and their training needs. The Department has also supported occupational research that begins to define green jobs, review sectors impacted by green investments, and understand how new green technology and materials will affect occupational requirements. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be used as a starting point for identifying green industries and occupations and informing the development of training and job placement programs. For a copy of the O*NET report and a listing of the identified occupations go to http://www.onetcenter.org/reports/Green.html

C. Working With Other Recovery Act Programs

The Recovery Act made funds available to a number of other federal programs that will impact the creation and expansion of green jobs. DOL is partnering with other federal agencies to support the creation of jobs by developing a pipeline of skilled workers in the energy efficiency and renewable energy industries. Where possible, ETA encourages applicants to connect their workforce development strategies to other Recovery Act funded projects that create jobs or impact the skill requirements of existing jobs. ETA recommends that applicants review other parts of the Recovery Act, with a focus on the activities funded through the Department of Energy (Energy), the Environmental Protection Agency (EPA), the Department of Housing and Urban Development (HUD), the Department of Transportation (DOT), the Department of Education (Education) and others. For additional resources and information about our federal partners, please see Section VIII, “Additional Resources of Interest to Applicants.”

I. Funding Opportunity Description

A. Overview

The Department is making available approximately $50 million in grant funds authorized by the Recovery Act for State Workforce Agencies, or a consortium of such agencies, to collect, analyze, and disseminate labor market information, and to enhance the labor exchange infrastructure for careers within the energy efficiency and renewable energy industries as defined in the Supplementary Information: Part B of this SGA. Individual grant awards to single State applicants will range from $750,000 to $1,250,000. Individual grant awards to consortium applicants will range from $2 to $4 million, contingent upon adequate justification of proposed project needs and the availability of resources (see Section III.A. for information on eligible applicants). Within the funding ranges specified above, applicants are encouraged to submit proposals for quality projects at whatever funding level is appropriate to the project.

As articulated in Section V of this SGA addressing application review criteria, the Department is seeking proposals for research and analysis of labor market data to assess economic activity in energy efficiency and renewable energy industries and identify occupations within those industries, as outlined in the Supplementary Information: Part B of this SGA.

The Recovery Act will stimulate the creation of green jobs through investments in renewable energy, energy efficiency, and other areas. One goal of the Department is to obtain employment estimates of the number and skill characteristics of current and future (projected) jobs in the green economy. The Department also is interested in assessing the extent to which new green jobs are being created as a result of Recovery Act investments, as well as investments from State and local governments, the private sector, and community organizations in green technologies and methods.

ETA is working with BLS to explore approaches to define and measure green jobs, including how surveys might be designed to evaluate the extent of green economic activity in businesses and industries, and identify the specific occupations of the employees who are doing such work. The Department intends for the labor market research efforts funded under this SGA to be coordinated with BLS activities, to the extent that such information is available within the grant timeframes, in order to promote consistent and comparable data across States on green employment impacts. Furthermore, these data collection activities must either conform to technical standards and methodologies established by BLS, or provide a sound rationale for the use of an alternative methodology.

BLS is currently developing methods to identify green industries and occupations. These definitions will be based on, and consistent with, the frameworks used in the North American Industry Classification System (NAICS), the Standard Occupational Classification (SOC) system, or the Occupational Information Network (O*NET) system (based on SOC), with additional details or new specializations identified as needed. Data collection activities proposed by applicants should be consistent with these classification frameworks. As applicants examine existing classifications of energy efficiency and renewable energy industry occupations, they will identify more specific industries or occupations for separate identification.

Applicants should reference the activities underway at BLS and the list of new and emerging occupations in the O*NET study as a starting point for data collection research on new green occupations. For a copy of the O*NET report and a listing of the identified occupations go to http://www.onetcenter.org/reports/Green.html.

In addition to this O*NET occupational information, ETA also supports the development and dissemination of industry competency models, available through the Competency Model Clearinghouse Web site within CareerOneStop.org (http://www.careeronestop.org/CompetencyModel/default.aspx). Some of these industry competency models, such as Residential Construction, and Energy, already contain certain green competency components that may be useful as a starting point or supplement for further development or customization for a State or regional economy.

Funds are being made available to provide education and job training to prepare workers for green jobs through separate DOL grant solicitations and WIA funding provided by the Recovery Act. To facilitate the placement of workers in these jobs, the Department is seeking information on current and expected employment numbers, research to identify the skill and competency requirements of newly created jobs, as well as the identification of changing skill needs of existing occupations that will require proficiency with new green technologies and materials. One key goal is to ensure that the training efforts being funded through the public workforce investment system provide workers with the training that will be in demand for green jobs, and to ensure that a supply of trained workers will be available to fill the openings posted by businesses that will be hiring as a result of Recovery Act investments.

B. Strategies and Approaches

Applicants must propose strategies and approaches in the following focus areas:

1. Data Collection and Estimation Activities Related to Green Industries, Occupations, and Skill Requirements

Applicants will propose effective methods for estimating the impact on industry and occupational employment resulting from implementation of green technologies, particularly as related to projects funded by, but not limited to, Recovery Act investments. Successful applicants will conduct labor market research to assess and develop estimates of employment (organized by industry and/or occupation) and labor market data indicating green job skills requirements and occupational characteristics. Such information must be developed for both State and, where feasible, sub-State regions, as well as multi-State regions. In addition, research or tools with potential national impact may be developed through collaborative approaches whereby multiple States apply as a consortium. This focus area is explicitly evaluated in Sections V.A.4.i. of this SGA.

2. Data Dissemination Activities

Applicants will disseminate the research and data produced through these projects and include outreach strategies to inform the public workforce system; educational institutions; community and faith-based organizations that offer workers training, employment, and support services; job seekers; students; labor, business, and industry organizations; and economic development agencies of the occupational skills and growing needs of the energy efficiency and renewable energy industries. This research and data may ultimately be used by these groups and organizations for the purpose of establishing career pathways for green occupations. Publication of data or estimates may be through multiple modes, such as a press release, hardcopy report, PDF document, or Internet Web sites. Information may be provided in different formats for different target audiences. In addition to technical information, the Department strongly encourages the inclusion of career information, competency models, and guidance for job-seekers. Applicants must ensure that dissemination strategies comply with the accessibility requirements of Section 508 of the Rehabilitation Act Amendments of 1998 (29 U.S.C. 794), to ensure information is available to individuals with disabilities. Applicants should also be aware of ETA's Intellectual Property Rights included in Section IV.E. of this SGA. This focus area is explicitly evaluated in Section V.A.4.ii. of this SGA.

3. Related Research Activities

In addition to generating economic data, applicants may propose additional research that provides insight into the State regulatory environment, an understanding of current programs of study and related credentials, and an identification of capital investments in green industries. Projects may include the following State-specific summaries that may be used to inform strategic decision-making by project partners:

i. State-specific summaries of Green Job statutes and regulations;

ii. State-specific summaries of educational resources including post-secondary and higher educational institutions' courses and programs leading to industry-recognized credentials, certifications, or degrees;

iii. State-specific summaries of linkages between identified occupations and related training courses or programs that prepare workers with the skills and competencies required in the occupations;

iv. Identification of projects and their employment and skill needs that are resulting from Recovery Act or other public or private capital investments in renewable energy, energy efficiency, or related efforts (such as weatherization, building retrofit, mass transit infrastructure) that will likely generate green jobs in the State or region;

v. Estimated supply of human capital, including data on workforce demographics, educational attainment levels and existing skills, labor surpluses or shortages of a skilled workforce; and

vi. Development of labor market information tools or systems to estimate or project employment and skill needs at State or sub-State levels, or for defined economic regions.

This focus area is explicitly evaluated in Section V.A.4.iii. of this SGA.

4. Labor Exchange Activities

Applicants will include strategies for posting job openings to online job banks that will be highlighted for easy recognition as green jobs by job seekers. These openings may include jobs created through public or private investments in green and clean technology, as well as jobs created through funding from Energy, HUD, DOT, EPA, and other Recovery Act investments as appropriate. Tracking or data mining of such posted jobs can also be one of the methods used to assess employment activity in these industries. DOL is looking for online tools and other approaches that will encourage local residents to prepare for and apply for jobs being created in their local area. This focus area is explicitly evaluated in Section V.A.4.iv. of this SGA.

II. Award Information

A. Award Amount

The Department is making available approximately $50 million to fund these grants. Individual grant awards to single State applicants will range from $750,000 to $1,250,000. Individual grant awards to consortium applicants will range from $2 to $4 million, contingent upon an adequate justification of proposed project needs and the availability of resources (see Section III for information on eligible applicants). Within the funding ranges specified above, applicants are encouraged to submit budgets for quality projects at whatever funding level is appropriate to the project.

B. Period of Performance

The period of grant performance will be up to 18 months from the date of execution of the grant documents. This performance period includes all necessary implementation and start-up activities. Applicants should plan to fully expend grant funds and submit all reports during the period of performance, while ensuring full transparency and accountability for all expenditures.

III. Eligibility Information

A. Eligible Applicants

The eligible applicant for this grant solicitation is the State Workforce Agency, as States are expected to use workforce and labor market information and data as the foundation on which to build and implement effective workforce development strategies. Each State Workforce Agency is encouraged to submit an application under this competitive program as either a single State or as a partner with a consortium of States. States may only submit one application as a single state. Individual State applications will focus on research and other eligible activities within that State. ETA also encourages collaborative approaches, whereby multiple States apply as a consortium to conduct research that may potentially have a regional, multi-State, or national impact.

Applicants must clearly indicate in the required grant abstract if they are applying as an individual State or as a consortium. Consortium applications must identify each participating State and designate a lead State as the applicant that will have the overall responsibility for administering the grant. The consortium lead State will coordinate reporting activities and must serve as the fiscal agent. Consortium applications will not count against the “single application” per State limit for the partnering States, provided that the consortium proposal includes original strategies and is not duplicative of the strategies or deliverables included in the participating States' individual applications. For the purposes of this SGA, the term “State” means each of the 50 States of the United States, the District of Columbia, and U.S. territories. For the purposes of this SGA, the term “U.S. territories” includes the Commonwealth of Puerto Rico, as well as the following outlying areas: the United States Virgin Islands, Guam, American Samoa, the Commonwealth of the Northern Mariana Islands, the Republic of the Marshall Islands, the Federated States of Micronesia, and the Republic of Palau.

B. Cost Sharing

Cost sharing or matching funds are not required as a condition for application, but leveraged resources are strongly encouraged.

C. Eligibility Requirements

1. Strategic Partnerships

All applicants must demonstrate that the proposed project will be implemented through a robust strategic partnership that includes:

i. State Labor Market Information and Research entities, which will conduct the research activities discussed in Section I of this SGA. Applicants may propose that data collection and research activities be carried out by other appropriate research organizations such as colleges and universities, working in consultation with the Statewide workforce information entity regarding DOL methods and classification guidelines;

ii. The State Workforce Investment Board, which will partner to ensure that research and data developed by the grant inform planning for training efforts funded through the public workforce investment system; and

iii. Applicants may include additional partners such as employers, industry-related organizations, trade associations, labor organizations, labor-management organizations, colleges and universities, research labs and centers, or community and faith-based organizations with experience in the energy efficiency and renewable energy industries identified in the Supplementary Information: Part B of this SGA . These eligible partners may be included in an application to provide information and a user perspective, consulting with researchers on green jobs and skills, advising on what information is needed or would be useful for their purposes, as well as advising on presentation formats that would be useful to the organization or its constituency in providing training and placement services related to green jobs.

D. Other Grant Specifications

1. Grantee Training

Grantees are required to participate in all DOL/ETA training activities related to orientation, financial management and reporting, performance reporting, product dissemination, and other technical assistance training as appropriate during the life of the grant. These trainings may occur via conference call, webinar, and in-person meetings. For budgeting purposes, Grant recipients should allocate adequate staff time and travel resources to ensure participation at a two-day in-person event.

IV. Application and Submission Information

A. How to Obtain An Application Package

This SGA contains all of the information and links to forms needed to apply for grant funding.

B. Content and Form of Application Submission

The proposal will consist of three separate and distinct parts—(I) a cost proposal, (II) a technical proposal, and (III) attachments to the technical proposal. Applications that fail to adhere to the instructions in this section will be considered non-responsive and will not be considered. Please note that it is the applicant's responsibility to ensure that the funding amount requested is consistent across all parts and sub-parts of the application.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• Applicants must supply their D-U-N-S® Number on the SF 424. All applicants for Federal grant and funding opportunities are required to have a D-U-N-S® Number (Data Universal Numbering System). See Office of Management and Budget (OMB) Notice of Final Policy Issuance, 68 FR 38402, and June 27, 2003. The D-U-N-S® Number is a non-indicative, nine-digit number assigned to each business location in the D&B database having a unique, separate, and distinct operation, and is maintained solely by D&B. The D-U-N-S® Number is used by industries and organizations around the world as a global standard for business identification and tracking. If you do not have a D-U-N-S® Number, you can get one for free through the SBS site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the budget request, explained in detail below.

• Budget Narrative: The budget narrative must provide a description of costs associated with each line item on the SF-424A. It should also include leveraged resources provided to support grant activities. In addition, the applicant should address precisely how the administrative costs support the project goals. The entire Federal grant amount requested should be included on both the SF 424 and SF 424A (not just one year). No leveraged resources should be shown on the SF 424 and SF 424A. Please note that applicants that fail to provide a SF 424, SF 424A, a Dun and Bradstreet number, and a budget narrative will be removed from consideration prior to the technical review process.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The Technical Proposal will demonstrate the applicant's capability to implement the grant project in accordance with the provisions of this solicitation. The guidelines for the content of the Technical Proposal are provided in Part V.A of this SGA. The Technical Proposal is limited to 15 double-spaced single-sided pages with 12-point text font and 1-inch margins. Any materials beyond the 15-page limit will not be read. Applicants should number the Technical Proposal beginning with page number 1. Applicants that do not provide Part II the Technical Proposal of the application will be removed from consideration prior to the technical review process.

Part III. Attachments to the Technical Proposal. In addition to the 15-page Technical Proposal, the applicant must submit an Abstract, not to exceed one page, summarizing the proposed project including applicant name, project title, a description of the area to be served, and the funding level requested. Consortium applications must also clearly specify the lead State and identify each State that is participating in the project. The abstract will not count against the 15-page limit for the Technical Proposal. Additional materials such as resumes, general letters of support, or letters of commitment are not permitted and will not be read.

Applications may be submitted electronically on Grants.gov or in hardcopy via mail or hand delivery. These processes are described in further detail in Section IV.C. Applicants submitting proposals in hardcopy must submit an original signed application (including the SF 424) and one (1) “copy-ready” version free of bindings, staples or protruding tabs to ease in the reproduction of the proposal by DOL. Applicants submitting proposals in hardcopy are also required to provide an identical electronic copy of the proposal on compact disc (CD).

C. Submission Process, Date, Times, and Addresses

The closing date for receipt of applications under this announcement is August 14, 2009. As described below, applications must be received at the address below no later than 4 p.m. (Eastern Time). Applications sent by e-mail, telegram, or facsimile (FAX) will not be accepted. Applications that do not meet the conditions set forth in this notice will not be considered. No exceptions to the mailing and delivery requirements set forth in this notice will be granted.

Mailed applications must be addressed to the U.S. Department of Labor, Employment and Training Administration, Division of Federal Assistance, Attention: Willie Harris, Grant Officer, Reference SGA/DFA, PY 08-17, 200 Constitution Avenue, NW., Room N4716, Washington, DC 20210. Applicants are advised that mail delivery in the Washington area may be delayed due to mail decontamination procedures. Hand-delivered proposals will be received at the above address. All professional overnight deliveries must be considered to be hand-delivered and must be received at the designated place by the specified closing date and time.

Applicants may apply online through Grants.gov (http://www.grants.gov), however, due to the expected increase in system activity resulting from the American Recovery and Reinvestment Act of 2009, applicants are encouraged to use an alternate method to submit grant applications during this heightened period of demand. While not mandatory, DOL encourages the submission of applications thru professional overnight delivery service.

Applications that are submitted thru Grants.gov must be successfully submitted at http://www.grants.gov no later than 4 p.m. (Eastern Time) on August 14, 2009, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is strongly recommends that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to utilize the plethora of tools and documents, including FAQs, which are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail “support@grants.gov”.

Late Applications: For applications submitted on Grants.gov, only applications that have been successfully submitted no later 4 p.m. (Eastern Time) on the closing date and later successfully validated will be considered. Applicants take a significant risk by waiting until the last day to submit by grants.gov. Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Applicants that do not adhere to the above instructions will be deemed non-responsive. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its Federal cognizant agency either before or shortly after grant award. State agencies should already have such agreements in place.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal cognizant agency.

3. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

4. Intellectual Property Rights

The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following Statement must be included on all products developed in whole or in part with grant funds:

This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.

F. Other Submission Requirements

Withdrawal of Applications: Applications may be withdrawn by written notice at any time before an award is made.

V. Application Review Information

Criterion | Points
1: Statement of Need | 15
2: Strategic Partnership and Organizational Capacity | 15
3: Strategy and Project Work Plan | 35
4: Deliverables | 35
Total Points | = 100

A. Evaluation Criteria

Applicants will be evaluated on the completeness and quality of their submissions. A total of 100 points may be awarded under the criteria articulated below. The following review criteria apply to all applications:

1. Statement of Need (15 points)

Applicants must fully demonstrate a clear and specific need for the Federal investment in the proposed activities. Given the rapidly changing economic environments that many States and regions are currently facing, applicants should be as explicit and specific as possible in describing the need for specific sources of data and analysis. Points for this section will be awarded based on the following factors:

i. The applicant provides a description of the need for Federal funding of the proposed project by describing the need for labor market research in the targeted industries, as well as the role of the targeted industries in the State or regional economy (10 points).

ii. The applicant provides a description of the specific energy efficiency and renewable energy industries and occupations within those industries, and/or green occupations within the detailed list of industries provided in the SUPPLEMENTARY INFORMATION: Part B of this SGA, on which their proposed labor market research program will focus (5 points).

2. Strategic Partnerships and Organizational Capacity (15 points)

The applicant must demonstrate its capacity to implement the proposed project and the project's management structure as either a single State or consortium proposal. Scoring on this criterion will be based on the following factors:

i. Applicants must provide a comprehensive list of the strategic partners that will be included in the project. A complete list will include the entities conducting the research and partners who will be consulted to make sure the data and deliverables will meet their information needs (3 points).

• The State Workforce Agency as the project lead. Consortium applicants must list all cooperating States and designate the State that will serve as the project lead;

• State Labor Market Information and Research entities, will conduct the research activities discussed in Section I of this SGA. Applicants may propose that data collection and research activities be carried out by other appropriate research organizations such as colleges and universities, working in consultation with the Statewide workforce information entity regarding DOL methods and classification guidelines;

• The State Workforce Investment Board, will ensure that the research and data results are used to plan green job training efforts being funded through the public workforce investment system; and

• Applicants may include additional partners such as employers, industry-related organizations, trade associations, labor organizations, labor-management organizations, colleges and universities, research labs and centers, or community-based organizations with experience in the energy efficiency and renewable energy industries identified in Section I of this SGA. These eligible partners may be included in an application to provide information and a user perspective, consulting with researchers on green jobs and skills, advising on what information is needed or would be useful for their purposes, as well as advising on presentation formats that would be useful to the organization or its constituency in providing training and placement services related to green jobs.

ii. In order to prioritize regional approaches, five points automatically will be awarded to Consortium applicants only. Single State applicants are not eligible to receive these points. (5 points)

iii. Applicants must provide a complete description of the respective roles of the partners and the strengths of the partnership (3 points)

• Describe the substantive role each of the partners will play in the project. Consortium applicants must describe the substantive contribution of each cooperating State; and

• Describe the extent of collaboration that already exists among the partners, or the steps that partners will take to develop a strong collaboration.

iv. Applicants shall provide a complete description of the organization's capacity to implement the project, its track record in projects similar to the proposed solution, and related activities of the primary partners (4 points).

3. Strategy and Project Work Plan (35 points)

The applicant must describe the proposed strategy in full, including a complete description of the research, data collection, estimation, and dissemination components, as well as any evidence-based research or methods that they considered in designing the strategy. Applicants must also discuss how the project will address the Statement of Need, as well as how the proposed approach draws on sound research methods, practices, and tools. Scoring for this criterion will be based on the following factors:

i. A complete description of the specific methods, approaches, or tools that the project will use to collect and validate labor market data in a timely and accurate manner (15 points).

• Data collection activities must either conform to technical standards and methodologies established by BLS, or provide a sound rationale for the use of an alternative methodology.

• Data collection activities on industries or occupations should be consistent with the frameworks used in the North American Industry Classification System (NAICS), SOC systems, or O*NET system (based on SOC), with specialized occupations identified as needed. Applicants that use alternative standards and methodologies must describe these approaches and demonstrate why existing tools are not sufficient to meet the proposed needs.

• Information technology systems or applications developed with grant funds must adhere to industry-standard, open architecture principles with documentation and software made available for use by other organizations for Federal government purposes.

ii. Address how the proposal will meet the needs identified in the Statement of Need (10 points)

• Demonstrate that the proposed information collected will support identification of training needs for workers and planning for education and training program offerings, including needed credentials or apprenticeship programs; and

• Demonstrate that the proposed information collection will identify the specific skill needs of employers in the areas in which the project is focusing, and how the information will support economic development and planning in a State, a consortium of States, or have national impact.

iii. Provide a comprehensive implementation and dissemination plan with specific goals, objectives, activities, and feasible timelines (10 points)

4. Deliverables (35 points)

The applicant must specify the labor market research and data collection activities that will be developed, identifying the specific deliverables that will be produced and the dissemination strategies and documentation methods that will be used. Applicants are strongly encouraged to include: research or direct data collection activities; research information and data packaged in the form of a report, presentation, or other appropriate format; systems or tools for multiple users such as software applications to automate the collection or processing of data, to project employment or skill demands, or to develop estimates based on data mining of job banks or other resources; and dissemination strategies to serve the populations and needs outlined in this SGA. These strategies should provide information about the number, type, and location of green jobs; the appropriate training for such jobs; and facilitate placement of workers in green jobs. Scoring on this criterion will be based on the following factors:

i. Applicant provides a thorough description of the labor market research to be conducted and the deliverables to be produced, such as estimates of employment by industry and/or occupation, labor market characteristics of occupations or labor force participants, and competency requirements information which may include, but are not limited to the following (10 points):

• Current employment estimates;

• Identification and analysis of job openings;

• Identification of wages and benefits;

• Identification of the energy efficiency and renewable energy businesses and/or green occupations within the detailed list of industries provided in the Supplementary Information: Part B of this SGA;

• Short-term and/or long-term industry and occupational projections of future employment needs;

• Skill or competency requirements of industries or occupations in energy efficiency and renewable energy businesses and/or green occupations within the detailed list of industries provided in the Supplementary Information: Part B of this SGA;

• Demographic characteristics of workers in green jobs, such as gender, race, age, educational attainment, literacy skills, etc.; and

• Estimates of job vacancies.

ii. Applicants must provide a comprehensive description of all proposed dissemination strategies and formats (10 points).

• Demonstrate that the research and data produced through the project will be sufficient to inform the public workforce system; educational institutions; community and faith-based organizations that offer workers training, employment, and support services; job seekers; students; labor, business, and industry organizations; and economic development agencies of the occupational skills and growing needs of the energy efficiency and renewable energy industries in the identified State or sub-national region.

• Fully describe approaches to disseminate data or estimates through multiple modes, such as a press release, hardcopy report, PDF document, or Internet web sites. Information may be provided in different formats for different target audiences. In addition to technical information, the Department strongly encourages the inclusion of career information, competency models, and guidance for job-seekers.

iii. Applicant identifies all related research deliverables, which may include, but are not limited to the following (5 points):

• State-specific summaries of Green Job statutes and regulations;

• State-specific summaries of educational resources including post secondary and higher educational institutions' courses and programs leading to industry-recognized credentials, certifications, or degrees;

• State-specific summaries of linkages between identified occupations and related training courses or programs that prepare workers with the skills and competencies required in the occupations;

• Identification of projects and their employment and skill needs that are resulting from Recovery Act or other public or private capital investments in renewable energy, energy efficiency, or related efforts (such as weatherization, building retrofit, mass transit infrastructure) that will likely generate green jobs in the State or region;

• Estimated supply of human capital, including data on workforce demographics, educational attainment levels and existing skills, labor surpluses or shortages of a skilled workforce; and

• Development of labor market information tools or systems to estimate or project employment and skill needs at State or sub-State levels, or for defined economic regions.

iv. Applicants provide a comprehensive description of all proposed research deliverables to enhance labor exchange infrastructure, which may include but are not limited to (10 points):

• Development of labor market information tools or systems to estimate or project employment and/or skill needs at State or sub-State levels, or for other defined economic regions;

• Demonstrate strategies to promote the posting of green job openings and resumes to online job banks or through other approaches, including methods to encourage local residents to prepare for and apply for jobs being created in their local area, if applicable to the proposed project design; and

• Tracking or data mining of posted jobs and resumes to assess employment demand and job applicant activity in green jobs.

B. Review and Selection Process

Applications for grants under this solicitation will be accepted after the publication of this announcement and until the closing date. A technical review panel will make a careful evaluation of applications against the criteria. These criteria are based on the policy goals, priorities, and emphases set forth in this SGA. Up to 100 points may be awarded to an application, depending on the quality of the responses to the required information described in Section V.A. The ranked scores will serve as the primary basis for selection of applications for funding, in conjunction with other factors such as geographic balance; the availability of funds; and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, DOL/ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations-OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35—Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The American Recovery and Reinvestment Act of 2009, Public Law 111-5, 123 Stat. 115, Division A, Title VIII (February 17, 2009).

ii. The Green Jobs Act of 2007, Public Law 110-140, 121 Stat. 1748 (codified at 29 U.S.C. 2916).

iii. The Workforce Investment Act of 1998, Public Law 105-220, 112 Stat. 939 (codified as amended at 29 U.S.C. 2801 et seq.) and 20 CFR part 667 (General Fiscal and Administrative Rules).

iv. 29 CFR part 29 & 30—Apprenticeship and Equal Employment Opportunity in Apprenticeship and Training; and

v. 29 CFR part 37—Implementation of the Nondiscrimination and Equal Opportunity Provisions of the Workforce Investment Act of 1998.

• The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment.

In accordance with Section 18 of the Lobbying Disclosure Act of 1995 (Pub. L. 104-65) (2 U.S.C. 1611) non-profit entities incorporated under Internal Revenue Service Code section 501(c)(4) that engage in lobbying activities are not eligible to receive Federal funds and grants.

Except as specifically provided in this SGA, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements: Evaluation

To measure the impact of grants funded under the SGA, ETA intends to fund one or more independent evaluations. By accepting funding, grantees must agree to participate in such an evaluation, should they be selected to participate. Grantees must agree to make records on participants, employers, and funding available and to provide access to program personnel and participants, as specified by the evaluator(s) under the direction of ETA, including after the expiration date of the grant.

3. American Recovery and Reinvestment Act of 2009 (Pub. L. 111-5) Provisions

Prospective applicants are advised that, if they receive an award, they must comply with all requirements of the American Recovery and Reinvestment Act of 2009 [Pub. L. 111-5]. Applicants are advised to review the Act and implementing OMB guidance in the development of their proposals. Requirements include, but are not limited to:

i. Adherence to all grant clauses and conditions as they relate to Recovery Act activity.

ii. Prohibition on expenditure of funds for activities at any casino or other gambling establishment, aquarium, zoo, golf course or swimming pool.

iii. Compliance with the requirements to obtain a D-U-N-S® Number and register with the Central Contractor Registry (CCR). ETA will issue additional guidance related to this requirement shortly.

iv. Submission of required reports in accordance with Section 1512 of the Recovery Act. These reports will be due quarterly within 10 days of the end of the reporting period and are in addition to the ETA required reports addressed in Section VI of this SGA. ETA will issue additional guidance related to these reports and their submission requirements shortly.

Implementing OMB guidance may be found at http://www.recovery.gov.

C. Reporting

Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each calendar year quarter. Grantees must use DOL's On-Line Electronic Reporting System and information and instructions will be provided to grantees.

2. Quarterly Performance Reports

The grantee must submit a quarterly progress report within 45 days after the end of each calendar year quarter. The last quarterly progress report that grantees submit will serve as the grant's Final Performance Report. This report should provide both quarterly and cumulative information on the grant's activities. It must summarize project activities, employment outcomes and other deliverables, and related results of the project, and should thoroughly document the training or labor market information approaches utilized by the grantee. DOL will provide grantees with formal guidance regarding data and other information that is required to be collected and reported on either a regular basis or special request basis. Grantees must agree to meet DOL reporting requirements.

3. Record Retention

Applicants should be aware of Federal guidelines on record retention, which require grantees to maintain all records pertaining to grant activities for a period of not less than three years from the time of final grant close-out.

VII. Agency Contacts

For further information regarding this SGA, please contact Willie Harris, Grant Officer, Division of Federal Assistance, at (202) 693-3344 (This is not a toll-free number). Applicants should e-mail all technical questions to harris.willie@dol.gov and must specifically reference SGA/DFA PY 08-17, and along with question(s), include a contact name, fax and phone number. This announcement is being made available on the ETA Web site at http://www.doleta.gov/grants and at http://www.grants.gov.

VIII. Additional Resources of Interest to Applicants

A. Other Web-Based Resources

DOL maintains a number of web-based resources that may be of assistance to applicants. America's Service Locator (http://www.servicelocator.org) provides a directory of our nation's One Stop Career Centers.

B. Industry Competency Models

ETA supports an Industry Competency Model Initiative to promote an understanding of the skill sets and competencies that are essential to an educated and skilled workforce. A competency model is a collection of competencies that taken together define successful performance in a particular work setting. Competency models serve as a starting point for the design and implementation of workforce and talent development programs. To learn about the industry-validated models visit the Competency Model Clearinghouse (CMC) at http://www.careeronestop.org/CompetencyModel/. The CMC site also provides tools to build or customize industry models, as well as tools to build career ladder and/or career lattice.

C. Federal Collaboration

DOL encourages other Federal partners to recommend or require, where appropriate, that organizations receiving Recovery Act funding list jobs created with their State public labor exchange. The Department is developing specific strategies to link job listings, training opportunities and placement among programs funded by Departments of Housing and Urban Development, Energy, Education, and the Environmental Protection Agency. Where the grantee is not the public workforce system, they are strongly encouraged to work with the local One Stop Career Center to make these connections.

D. Links to Federal Recovery Sites

For specific information on a range of Federal agency Recovery Act activities and funding opportunities:

• Department of Education: http://www.ed.gov/policy/gen/leg/recovery/index.html.

• Department of Energy: http://www.doe.gov/recovery.

• Department of Housing and Urban Development: http://www.hud.gov/recovery.

• Department of Transportation: http://www.dot.gov/recovery/.

Environmental Protection Agency: http://www.epa.gov/recovery.

E. Promising Research Approaches

ETA encourages applicants to research promising training approaches in order to inform their proposals. The following list of Web sites provides a starting place for this research, but by no means should be considered a complete list:

• ETA's home site (http://www.doleta.gov) and the ETA Research Publication Database (http://www.doleta.gov/research/keyword.cfm).

• ETA's knowledge sharing site (http://www.workforce3one.org), including the “workforce solutions” section that contains over 6,000 additional resources applicants may find valuable in developing workforce strategies and solutions.

• The National Governors Association Center for Best Practices (http://www.nga.org).

• The National Association of State Workforce Agencies (http://www.workforceatm.org).

• The National Association of Workforce Boards (http://www.nawb.org).

IX. Other Information

OMB Information Collection No. 1225-0086. Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. Please do not return the completed application to omb. send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 19th day of June 2009.
Donna Kelly,
Grant Officer, Employment and Training Administration.

[FR Doc. E9-14930 Filed 6-23-09; 8:45 am]

BILLING CODE 4510-FN-P